DEPARTMENT OF COMMERCE

International Trade Administration

[A-201-836]

Notice of Correction to Initiation of Antidumping Duty Investigation: Light-Walled Rectangular Pipe and Tube from Mexico

AGENCY: Import Administration, International Trade Administration, Department of Commerce.

EFFECTIVE DATE: August 15, 2007.

FOR FURTHER INFORMATION CONTACT: John Drury or Angelica Mendoza, AD/CVD Operations, Office 7, Import Administration, International Trade Administration, U.S. Department of Commerce, 14th Street and Constitution Avenue, NW, Washington, DC 20230; telephone: (202) 482-0195 or (202) 482-3019, respectively.

SUPPLEMENTARY INFORMATION:

CORRECTION:

On July 24, 2007, the Department of Commerce (“the Department”) published its initiation of investigations on light-walled rectangular pipe and tube (“LWR”) for a number of countries. See Initiation of Antidumping Duty Investigations: Light-Walled Rectangular Pipe and Tube from Republic of Korea, Mexico, Turkey, and the People's Republic of China, 72 FR 40274 (July 24, 2007). Subsequent to the publication of the initiation of investigations, we identified an inadvertent error in the Federal Register. The case number associated with the LWR investigation for Mexico is incorrect. The correct case number is A-201-836. This notice is to serve as a correction to the case number. The initiation of the investigation of LWR from Mexico is correct and remains unchanged.

This correction is issued and published in accordance with section 777(i) of the Tariff Act of 1930, as amended.

Dated: August 8, 2007.
Stephen J. Claeys,
Deputy Assistant Secretary for Import Administration.

[FR Doc. E7-16019 Filed 8-14-07; 8:45 am]

BILLING CODE 3510-DS-S